DEPARTMENT OF AGRICULTURE

Animal and Plant Health Inspection Service

7 CFR Part 319

[Docket No. APHIS-2013-0059]

RIN 0579-AD85

Importation of Fresh Unshu Oranges From Japan Into the United States; Technical Amendment

AGENCY: Animal and Plant Health Inspection Service, USDA.

ACTION: Final rule; technical amendment.

SUMMARY: In a final rule published in the Federal Register on October 27, 2014, and effective on November 26, 2014, we amended the regulations concerning the importation of citrus fruit to remove certain restrictions on the importation of Unshu oranges from Japan. Among other amendments, we removed a requirement for joint inspection of the fruit at groves and packinghouses by the Government of Japan and the Animal and Plant Health Inspection Service. As an unintended consequence of removing that requirement, we effectively precluded the Government of Japan from being able to meet another one of the requirements of the regulations, which requires oranges produced on two islands in Japan to be fumigated with methyl bromide prior to exportation to the United States, if the oranges are destined for certain commercial citrus-producing areas of the United States. This document corrects that error.

DATES: Effective August 11, 2015.

FOR FURTHER INFORMATION CONTACT: Mr. David Lamb, Senior Regulatory Policy Specialist, Regulatory Coordination and Compliance, PPQ, APHIS, 4700 River Road, Unit 133, Riverdale, MD 20737-1236; (301) 851-2103.

SUPPLEMENTARY INFORMATION: In a final rule ¹ that was published in the Federal Register on October 27, 2014 (79 FR 63807-63809, Docket No. APHIS-2013-0059), and effective on November 26, 2014, we amended the regulations concerning the importation of citrus fruit (referred to below as the regulations) to remove certain restrictions on the importation of Unshu oranges from Japan. Among other changes, we removed a requirement from the regulations that required the oranges to be grown in export areas in Japan that are free of citrus canker (Xanthomonas citri subsp. citri, referred to as Xcc), with buffer zones that are similarly free of Xcc, based on joint inspection by the Government of Japan and the Animal and Plant Health Inspection Service (APHIS). We also removed a requirement from the regulations that required the national plant protection organization (NPPO) of Japan and APHIS to jointly inspect fruit in the groves prior to and during harvest, as well as in the packinghouses during packinghouse operations. We removed these requirements in order to make our regulations concerning the importation of Unshu oranges from Japan consistent with our domestic regulations concerning the interstate movement of citrus fruit from areas quarantined for citrus canker, which do not require APHIS oversight of grove or packinghouse inspections.

¹ To view the rule, supporting analyses, and comments we received, go to http://www.regulations.gov/#!docketDetail;D=APHIS-2013-0059.

As a result of the rule, APHIS believed that its presence in Japan to help oversee the export program for Unshu oranges to the United States was no longer necessary. Accordingly, we recalled inspectors assigned to that program to the United States.

However, our final rule retained provisions in the regulations that required Unshu oranges imported from Shikoku and Honshu Islands in Japan to be fumigated with methyl bromide in accordance with 7 CFR part 305 after harvest and prior to export to the United States, if the oranges are to be imported into Arizona, California, Florida, Hawaii, Louisiana, or Texas, all of which have significant commercial citrus production. We also retained provisions of the regulations that prohibited Unshu oranges from Shikoku or Honshu Island that have not been fumigated with methyl bromide in accordance with 7 CFR part 305 from being imported into Arizona, California, Florida, Hawaii, Louisiana, or Texas.

Within part 305, § 305.4 requires any treatment performed outside of the United States to be monitored and certified by inspector or an official authorized by APHIS, and further provides that all treatments are subject to monitoring and verification by APHIS.

As a matter of APHIS policy, we currently require chemical treatments performed outside the United States to be monitored and certified by APHIS inspectors and do not authorize other officials to perform such functions in our absence. Accordingly, when we recalled APHIS inspectors assigned to the export program for Unshu oranges to the United States from Japan, we effectively precluded Shikoku and Honshu Islands from administering the methyl bromide treatment required by the regulations for citrus destined to Arizona, California, Florida, Hawaii, Louisiana, or Texas. We thus inadvertently prohibited the two islands from shipping Unshu oranges to those States.

This was not our intent. Therefore, we are amending the regulations to allow Unshu oranges from Shikoku or Honshu Islands to be fumigated with methyl bromide at the port of entry into Arizona, California, Florida, Hawaii, Louisiana, or Texas. We are also amending the regulations to allow such oranges to be shipped to Arizona, California, Florida, Hawaii, Louisiana, or Texas without prior methyl bromide fumigation, provided that they are fumigated at the port of entry in Arizona, California, Florida, Hawaii, Louisiana, or Texas.

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. Section 319.28 is amended by revising paragraphs (b)(6) and (b)(8)(ii) to read as follows:

§ 319.28 Notice of quarantine.

* * * * *

(b) * * *

(6) To be eligible for importation into Arizona, California, Florida, Hawaii, Louisiana, or Texas, each shipment of oranges grown on Honshu Island or Shikoku Island, Japan, must be fumigated with methyl bromide in accordance with part 305 of this chapter either after harvest and prior to exportation to the United States, or upon arrival at the port of entry in Arizona, California, Florida, Hawaii, Louisiana, or Texas. Fumigation will not be required for shipments of oranges grown on Honshu Island or Shikoku Island, Japan, that are to be imported into States other than Arizona, California, Florida, Hawaii, Louisiana, or Texas.

* * * * *

(8) * * *

(ii)(A) Unshu oranges from Honshu Island or Shikoku Island, Japan, may not be imported into American Samoa, Northern Mariana Islands, Puerto Rico, or the U.S. Virgin Islands.

(B) Unshu oranges from Kyushu Island, Japan (Prefectures of Fukuoka, Kumanmoto, Nagasaki, and Saga only) that have not been fumigated in accordance with part 305 of this chapter may not be imported into American Samoa, Arizona, California, Florida, Hawaii, Louisiana, the Northern Mariana Islands, Puerto Rico, Texas, or the U.S. Virgin Islands.

* * * * *

Done in Washington, DC, this 5th day of August 2015.
Kevin Shea,
Administrator, Animal and Plant Health Inspection Service.

[FR Doc. 2015-19698 Filed 8-10-15; 8:45 am]

BILLING CODE 3410-34-P